DEPARTMENT OF AGRICULTURE

Forest Service

Information Collection; Request for Comment; Objections to New Land Management Plans, Plan Amendments, and Plan Revisions

AGENCY: Forest Service, USDA.

ACTION: Notice.

SUMMARY: In accordance with the Paperwork Reduction Act of 1995, the Forest Service is seeking comments from all interested individuals and organizations on the extension of a currently approved information collection, Objections to New Land Management Plans, Plan Amendments, and Plan Revisions.

DATES: Comments must be received in writing on or before September 18, 2006 to be assured of consideration. Comments received after that date will be considered to the extent practicable.

ADDRESSES: Comments concerning this notice should be addressed to Forest Service, USDA, Assistant Director for Planning, Ecosystem Management Coordination, Mail Stop 1104, 1400 Independence Avenue, SW., Washington, DC 20250-1104.

Comments also may be submitted via facsimile to (202) 205-1012 or by e-mail to: aerba@fs.fed.us.

The public may inspect comments received at the Ecosystem Management Coordination Office, 201 14th St., SW., Washington, DC, during normal business hours. Visitors are encouraged to call ahead to (202) 205-0895 to facilitate entry into the building.

FOR FURTHER INFORMATION CONTACT: Anthony Erba, Ecosystem Management Coordination, at (202) 205-0895 or e-mail to: aerba@fs.fed.us. Individuals who use TDD may call the Federal Relay Service (FRS) at 1-800-877-8339, 24 hours a day, every day of the year, including holidays.

SUPPLEMENTARY INFORMATION: Title: Objection to New Land Management Plans, Plan Amendments, and Plan Revisions.

OMB Number: 0596-0158.

Expiration Date of Approval: December 31, 2006.

Type of Request: Extension of a currently approved collection.

Abstract: The information that would be required by 36 CFR 219.13 is the minimum information needed for a citizen or organization to explain the nature of the objection being made to a proposed land management plan, plan amendment, or plan revision and the reason why the individual or organization objects. Specifically, an objector must provide name, mailing address, and telephone number; and identification of the specific proposed plan, amendment or revision that is the subject of the objection; and a concise statement explaining how the environmental disclosure documents, if any, and proposed plan, amendment, or revision are inconsistent with law, regulation, Executive Order, or policy and any recommendations for change. The Reviewing Officer must review the objection(s) and relevant information and then respond to the objector(s) in writing.

Estimate of Annual Burden: 10 hours to prepare the objection.

Type of Respondents: Interested and affected individuals, organizations, and governmental units who participate in the planning process: such as persons who live in or near National Forest System (NFS) lands; local, State, and Tribal governments who have an interest in the plan; Federal agencies with an interest in the management of NFS lands and resources; not-for-profit organizations interested in NFS management, such as environmental groups, recreation groups, educational institutions; and commercial users of NFS land and resources.

Estimated Annual Number of Respondents: 1,210 a year.

Estimated Annual Number of Responses per Respondent: 1.

Estimated Total Annual Burden on Respondents: 12,100 hours.

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the request for Office of Management and Budget approval.

Dated: July 13, 2006.
Gloria Manning,
Associate Deputy Chief, NFS.

[FR Doc. E6-11321 Filed 7-17-06; 8:45 am]

BILLING CODE 3410-11-P